ENVIRONMENTAL PROTECTION AGENCY

[FRL-8215-5; EPA-HQ-OEI-2006-0633]

Creation of a New System of Records

AGENCY: Environmental Protection Agency (EPA).

ACTION: Notice of creation of a new system of records notice.

SUMMARY: Pursuant to the provisions of the Privacy Act of 1974 (5 U.S.C. 552a), the Office of Administration and Resources Management gives notice that it proposes to create a new system of records for its administrative systems by transferring the Inspector General's Operation and Reporting (IGOR) system of records (EPA-41) from the Office of the Inspector General to the Office of Administration and Resources Management and renaming it Office of Administration Services Information System (OASIS). In addition to the exempted personnel security files currently covered under EPA-41, records in the following Privacy Act systems are being transferred to OASIS: Wellness Program Medical Records (EPA-3); EPA Parking Control Office File (EPA-10); and the EPA Transit Program Files.

DATES: Persons wishing to comment on this system of records notice may do so by October 10, 2006.

ADDRESSES: Submit your comments, identified by Docket ID No. EPA-HQ-OEI-2006-0633, by one of the following methods:

• www.regulations.gov: Follow the on-line instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room B102, 1301 Constitution Avenue, NW., Washington, DC. Such deliveries are only accepted during the Docket's normal hours of operation, and special arrangements should be made for deliveries of boxed information.

Instructions: Direct your comments to Docket ID No. EPA-HQ-OEI-2006-0633. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room B102, 1301 Constitution Ave., NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Ray Lee, Office of Administrative Services, Environmental Protection Agency, Ariel Rios, MC 3201A, 1200 Pennsylvania Avenue, NW., Washington, DC 20460; telephone number, (202) 564-4625; e-mail address, Lee.Ray@epa.gov.

SUPPLEMENTARY INFORMATION:

I. General Information

The Office of Administration and Resources Management plans to create a Privacy Act system of records for its administrative systems, i.e., OASIS. Details regarding the system of records are contained in this Federal Register Notice. OASIS maintains records that are used to administer and manage the administrative resources of the EPA. These actions effect no changes in the privacy protections of the affected category of records. Access to the system is restricted to authorized users and will be maintained in a secure, password protected computer system, in secure areas and buildings with physical access controls and environmental controls. The system is maintained by the Office of Administration and Resources Management.

Dated: August 22, 2006.
Linda A. Travers,
Acting Assistant Administrator and Chief Information Officer.

EPA-41

System Name:

Office of Administrative Services Information System (OASIS)

System Location:

Office of Administrative Services, Environmental Protection Agency, Ariel Rios Building, 1200 Pennsylvania Ave., NW., Washington, DC 20460.

Categories of Individuals Covered by the System:

Individuals who require regular, ongoing access to EPA-controlled facilities, information technology systems, or information classified in the interest of national security, including applicants for employment or contracts, Federal employees, contractors, grantees, students, interns, volunteers, other non-Federal employees and individuals formerly in any of these positions. The system also covers individuals authorized to perform or use services provided in Agency facilities (e.g., Fitness Center, etc.). The system does not apply to occasional visitors or short-term guests to whom the Agency will issue temporary identification.

Categories of Records in the System:

This system maintains records that are used to administer and manage the administrative resources of the EPA. Categories of records include:

• Personal information such as name, home address, telephone number, and date of birth.

• Work related information such as work address, work telephone number, organization/office assignment, and company name.

• Personnel Security Records such as the results of a background investigation, and information derived from documents used to verify applicant's identity.

• Locks and Keys Management information such as combinations, locks, incidents requiring a security report, keys, and safes located at Headquarters.

• Physical Security information such as building vulnerabilities, mitigations, costs associated with mitigation, and risk designation levels at various EPA locations.

• Warehouse Management information such as type of product order, contact information for recipient, and purchase order number.

• Fitness Center information such as photographs, medical information, payroll deductions, and pay grade (GS level only).

• Driver Tracking information such as EPA vehicle license plate numbers, service records, and number of passengers utilizing the Agency buses.

• Parking and Transit information such as carpool members names, addresses, work addresses, license plate numbers, and type of cars as well as transit subsidy information such as subsidy amount, possession of a registered Smart Trip card, and serial number of Smart Trip card if registered.

• Mail Center Management information used to track registered mail. Records include mailing address of the recipient and sender, name of individual who signed for the piece of mail, date and time mail was signed for, and costs of postage for each office.

• Printing information such as name and telephone number of the office requesting print jobs, the budget associated with the print job, and completion and delivery of the print job.

• Trouble Ticket information such as the name and work telephone number of the caller and the nature of the information technology problem.

Authority for Maintenance of the System (includes any revisions or amendments):

5 U.S.C. 301; Federal Information Security Act (Pub. L. 104-106, sec. 5113); Electronic Government Act (Pub. L. 104-347, sec. 203); the Paperwork Reduction Act of 1995 (44 U.S.C. 3501); and the Government Paperwork Elimination Act (Pub. L. 105-277, 44 U.S.C. 3504); Federal Property and Administrative Act of 1949, as amended.

Purpose(s):

The purpose of this system is to administer and manage administrative resources for the EPA. Each module's purpose is described below.

• Physical Security—The purpose of the Physical Security module is to assist the members of the Security Management Division with assessments of the physical vulnerabilities of buildings, risk and cost of exterior/perimeter mitigations, and security access.

• Warehouse Management—The purpose of the Warehouse Management module is to assist the Agency with tracking and recording government property.

• Fitness Center Management System—The purpose of the Fitness Center Management module is to assist team members within the Safety, Health and Environmental Management Division with tracking visitors, fitness center members' information, payment, and equipment inventory and maintenance.

• Parking and Transit System—The purpose of the Parking and Transit module is to assist the members of the Facilities Management and Services Division with tracking of the use of parking spaces provided by EPA. This module also tracks EPA employees' transit subsidy and Smart Trip transactions.

• Combo, Locks, Incidents, Keys, and Safe System—The purpose of the Combo Locks Incident Keys Safe System (CLIKS) module is to assist the members of the Security Management Division with tracking documentation associated with security changes for locks and keys as well as safes and combinations. This system also maintains a log of incidents on the grounds of EPA Headquarters' sites.

• Driver Tracking—The purpose of the Driver Tracking module is to assist the motor pool of the Facilities Management and Services Division with tracking requests, ridership, vehicles and buses. The Driver Tracking module contains information about special requests for the services of an EPA driver or shuttle bus.

• Mail Center—The purpose of the Mail Center module is to track costs associated with the Agency's incoming and outgoing mail as well as route and distribute internal and external mail.

• Personnel Security System—The purpose of the Personnel Security module is to assist the members of the Security Management Division with tracking the documentation associated with security investigations for Federal and non-Federal personnel working for EPA.

Routine Uses of Records Maintained in the System, Including Categories of Users and the Purposes of Such Uses:

General routine uses A, B, C, D, E, F, G, H, I, J, and K apply to this system.

Policies and Practices for Storing, Retrieving, Accessing, Retaining, and Disposing of Records in the System:

Storage:

Records are stored in electronic media and paper files are stored in locked file cabinets.

Retrievability:

Records are maintained in a database that requires authorized user login and password to retrieve personal data.

Safeguards:

Security controls used to protect personal sensitive data in OASIS are commensurate with those required for a information system rated MODERATE for confidentiality, integrity, and availability, as prescribed in NIST Special Publication, 800-53, “Recommended Security Controls for Federal Information Systems,” Annex 2.

Retention and Disposal:

Records are retained and disposed of in accordance with EPA's records control schedule approved by the National Archives and Records Administration.

System Manager(s) and Address:

Director, Office of Administrative Services, Environmental Protection Agency, MC3201A, 1200 Pennsylvania Avenue, NW., Washington, DC 20460.

Notification Procedures:

Any individual who wants to know whether this system of records contains a record about him or her, who wants access to his or her record, or who wants to contest the contents of a record, should make a written request to the EPA FOIA Office, Attn: Privacy Act Officer, MC2822T, 1200 Pennsylvania Avenue, NW., Washington, DC 20460.

Record Access Procedure:

Requests for access must be made in accordance with the procedures described in EPA's Privacy Act regulations at 40 CFR part 16. Requesters will be required to provide adequate identification, such as a driver's license, employee identification card, or other identifying document. Additional identification procedures may be required in some instances.

Contesting Records Procedure:

Requests for correction or amendment must identify the record to be changed and the corrective action sought. Complete EPA Privacy Act procedures are described in EPA's Privacy Act regulations at 40 CFR part 16.

Record Source Categories:

The system of records notice that applies to OASIS is PeoplePlus Payroll, Time and Labor Application (EPA-1). All data not collected from this system is entered manually from employees and contractors via paper or electronic format.

Systems Exempted From Certain Provisions of the Act:

Under 5 U.S.C. 552a(k)(1), (k)(2), and (k)(5), the Personnel Security System is exempt from the following provisions of the Privacy Act of 1974 as amended, subject to the limitations set forth in this subsection; 5 U.S.C. 552a(c)(3); (d)(2), (d)(3), and (d)(4); (e)(1), and (f)(2) through (5). Although the Personnel Security System has been exempted, EPA may, in its discretion, fully grant individual requests for access and correction if it determines that the exercise of these rights will not interfere with an interest that the exemption is intended to protect.

\

[FR Doc. 06-7319 Filed 8-30-06; 8:45 am]

BILLING CODE 6560-50-P